DEPARTMENT OF TRANSPORTATION

National Highway Traffic Safety Administration

[Docket No. NHTSA-2002-12366 Notice 1]

General Motors Corporation; Receipt of Application for Determination of Inconsequential Noncompliance

General Motors Corporation (GM) of Warren, Michigan has applied to be exempted from the notification and remedy requirements of the 49 U.S.C. Chapter 301 “Motor Vehicle Safety” for noncompliance with Federal Motor Vehicle Safety Standard (FMVSS) No. 209 “Seat Belt Assemblies,” on the basis that the noncompliance is inconsequential to motor vehicle safety. GM has filed a report of noncompliance pursuant to 49 CFR part 573, “Defect and Noncompliance Reports.”

This notice of receipt of an application is published under 49 U.S.C. 30118 and 30120, and does not represent any agency decision or other exercise of judgment concerning the merits of the application.

Pursuant to the requirements of 49 CFR part 556, GM requests exemption from the notification and remedy requirements of 49 U.S.C. sections 30118(d) and 30120(h). This exemption is requested for noncompliance with certain provisions of FMVSS No. 209. Based on its review of an analysis provided by TK Holdings, Inc. (TKH), the seat belt supplier, both GM and TKH believe that due to redundant emergency locking features of the subject safety belts, combined with the very low number of potentially noncomplying belts, the noncompliance in question is inconsequential to motor vehicle safety.

Summary of the Petition

According to GM, certain 2001 and 2002 vehicles that it produced between July 1, 2000 and April 29, 2002 may not meet the requirements of S4.3(j)(1) of FMVSS No. 209. Specifically, it is possible that approximately 90 seat belt assemblies per million (0.009%) produced by TKH between July 1, 2000 and January 14, 2002 for the front outboard seats, might not lock before the webbing extends 25 mm (1 inch) when the retractor assembly is subjected to an acceleration of 7 m/s² (0.7 g). For vehicles produced from January 15, 2002 through April 29, 2002, the frequency of the noncompliance declines to approximately 32 assemblies per million (0.003%). The noncompliance occurs because the vehicle-sensitive emergency locking system in a small number of seat belt assemblies can be disabled by atypical handling during transit from TKH to the seat suppliers or during installation in the vehicle seats. The specific noncompliance is discussed in more detail in the April 9, 2002 Part 573 report submitted to NHTSA.

The noncompliance initially was discovered by TKH when seat belt assemblies shipped to Europe for ECE Type Approval were returned because of the noncomplying condition. During inspections of completed seating units at some of the seat assembly plants, a small number of seat belt assemblies were discovered in which the vehicle-sensitive emergency locking system was not functioning. Upon analysis of these parts, TKH determined that there was a possibility that atypical handling during transit could disable this vehicle-sensitive emergency locking function in approximately 58 out of every 1 million retractors. TKH also determined that subsequent handling of the seat belt assemblies at the seat-manufacturing facilities could produce additional incidents on the order of 32 per million retractors, for a total of 90 retractor assemblies per million.

On January 15, 2002, TKH initiated a 100% inspection of the seat belt assemblies upon their arrival at the seat-manufacturing facilities, and some inspections of the seat belts after installation in seats was started on January 30, 2002. During March and April of 2002, upon learning that handling of the seat belt assemblies at the seat-manufacturing facilities also could disable the vehicle-sensitive emergency locking function, TKH progressively initiated (or reinitiated) a 100% inspection of the seat belts in assembled seats. GM claims that, for seating units produced prior to January 15, 2002, there is a potential noncompliance of 90 belts per million produced, and for seating units produced from January 15, 2002 through April 29, 2002, there is a potential noncompliance of 32 belts per million produced.

Since April 30, 2002, when all seat belts and all seating units have been subjected to a 100% inspection, GM is confident that all vehicles produced include belts assemblies that comply with the emergency locking requirements of FMVSS 209. Further, beginning in April 2002, a design change was made to this emergency locking system to improve the robustness of the mechanism to make sure that it cannot be disabled by handling during shipping or during installation in the seats. TKH intends to end the 100% inspection of seating units and seat belt assemblies after a high level of confidence is established by inspecting the improved assemblies.

Based on the TKH analysis to date, GM estimates that in the approximately 1,870,000 vehicles produced between May 2000 (the earliest vehicle production start date among the affected vehicles) and April 29, 2002, there are approximately 271 noncomplying seat belt assemblies. This represents a combined rate of approximately 0.007%.

Availability of the Petition and Other Documents

The petition and other relevant information are available for public inspection in NHTSA Docket No. NHTSA-2002-12366. You may call the Docket at (202) 366-9324 or you may visit the Docket Management in Room PL-401, 400 Seventh Street SW, Washington, DC 20590 (10:00 a.m. to 5:00 p.m., Monday through Friday). You may also view the petition and other relevant information on the internet. To do this, do the following:

(1) Go to the Docket Management System (DMS) Web page of the Department of Transportation (http://dms.dot.gov/).

(2) On that page, click on “simple search.”

(3) On the next page (http://dms.dot.gov/searchform.simple.cfm/), type in the docket number “12366.” After typing the docket number, click on “search.”

(4) On the next page, which contains docket summary information for the docket you selected, click on the desired comments. You may download the comments and other materials.

Comments

Interested persons are invited to submit written data, views and arguments on the petition of GM, described above. Comments should refer to the Docket Number and be submitted to: Docket Management, Room PL 401, 400 Seventh Street SW, Washington, DC 20590. It is requested that two copies be submitted.

All comments received before the close of business on the closing date indicated below will be considered. The application and supporting materials, and all comments received after the closing date will also be filed and will be considered to the extent practicable. When the application is granted or denied, the Notice will be published in the Federal Register pursuant to the authority indicated below.

Comment closing date: August 7, 2002.

(49 U.S.C. 30118, 30120; delegations of authority at 49 CFR 1.50 and 49 CFR 501.8)
Issued on: July 2, 2002.
Stephen R. Kratzke,
Associate Administrator for Safety Performance Standards.

[FR Doc. 02-17010 Filed 7-5-02; 8:45 am]

BILLING CODE 4910-59-P